DEPARTMENT OF ENERGY

Federal Energy Regulatory Commission

[Docket No. CP15-91-000]

East Tennessee Natural Gas, LLC; Revised Notice of Schedule for Environmental Review of the Loudon Expansion Project

This notice identifies the Federal Energy Regulatory Commission (Commission or FERC) staff's revised schedule for the completion of the environmental assessment (EA) for East Tennessee Natural Gas, LLC's Loudon Expansion Project. The previous notice of schedule, issued on October 28, 2015, identified December 21, 2015 as the EA issuance date. Staff has revised the schedule for issuance of the EA.

Schedule for Environmental Review

Issuance of EA—December 28, 2015

90-day Federal Authorization Decision Deadline—March 27, 2016

If a schedule change becomes necessary, additional notice will be provided so that the relevant agencies are kept informed of the project's progress.

Additional Information

In order to receive notification of the issuance of the EA and to keep track of all formal issuances and submittals in specific dockets, the Commission offers a free service called eSubscription. Go to www.ferc.gov/docs-filing/esubscription.asp.

Dated: December 8, 2015.
Nathaniel J. Davis, Sr.,
Deputy Secretary.

[FR Doc. 2015-31392 Filed 12-11-15; 8:45 am]

BILLING CODE 6717-01-P